Memorandum of March 27, 2015

Delegation of Authority Under the National Defense Authorization Act for Fiscal Year 2015

Memorandum for the Secretary of State

By the authority vested in me as President by the Constitution and the laws of the United States of America, including section 301 of title 3, United States Code, I hereby order as follows:

I hereby delegate to the Secretary of State the authority to notify the Congress as required by section 1242(a) of the National Defense Authorization Act for Fiscal Year 2015 (Public Law 113-291) (the “Act”).

Any reference in this memorandum to the Act shall be deemed to be a reference to any future act that is the same or substantially the same as such provision.

You are authorized and directed to publish this memorandum in the Federal Register.

THE WHITE HOUSE.

Washington, March 27, 2015.

[FR Doc. 2015-08088

Filed 4-6-15; 8:45 am]

Billing code 4710-10